CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. Copies of the information collection requests can be obtained by contacting the office listed below in the ADDRESSES section of this notice.

DATES: Written comments must be submitted to the office listed in the ADDRESSES section by January 14, 2002.

ADDRESSES: Send comments to the Corporation for National and Community Service, Shelly Ryan, Program Coordinator, 1201 New York Avenue, NW., Washington, DC 20525.

FOR FURTHER INFORMATION CONTACT: Shelly Ryan at (202) 606-5000, ext. 549 or sryan@cns.gov.

SUPPLEMENTARY INFORMATION: Currently, the Corporation is soliciting comments concerning the proposed applications entitled:

a. The AmeriCorps*VISTA Application Instructions;

b. The National Senior Service Corps Application Instructions;

c. The AmeriCorps*National, State and Indian Tribes and U.S. Territories Application Instructions;

d. The AmeriCorps Promise Fellows Application Instructions;

e. The AmeriCorps Education Awards Programs Application Instructions; and

f. The Innovative and Demonstration Programs Application Instructions.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

Background

The Corporation publishes application guidelines and notices of funding availability that include information about the funding and requirements. The application instructions provide the information, instructions and forms that potential applicants need to complete an application to the Corporation for funding.

The Corporation does not currently have the capability to accept applications submitted electronically. However, we are in the process of building an electronic grants system that will meet the requirements of Pub. L. 106-107. As part of the development process, the Corporation is redesigning its application forms and instructions to reflect the electronic system design so that current grantees and applicants can become familiar with the new format.

Current Action

Part I

The Corporation seeks public comment on the forms, the instructions for the forms, and the instructions for the narrative portion of these application instructions.

Type of Review: Revised collection.

Agency: Corporation for National and Community Service.

Title: AmeriCorps*VISTA Project Application Instructions.

OMB Number: 3045-0038.

Agency Number: None.

Affected Public: Eligible public, private, and faith-based nonprofit organizations.

Total Respondents: 2,200.

Frequency: Once per year.

Average Time Per Response: 15 hours.

Estimated Total Burden Hours: 33,000 hours.

Total Burden Cost (capital/startup): None.

Total Burden Cost (operating/maintenance): None.

Part II

The Corporation seeks public comment on the forms, the instructions for the forms, and the instructions for the narrative portion of these application instructions.

Type of Review: Revised collection.

Agency: Corporation for National and Community Service.

Title: National Senior Service Corps Application Instructions.

OMB Number: 3045-0035.

Agency Number: None.

Affected Public: Eligible applicants to the Corporation for funding.

Total Respondents: 1,513.

Frequency: Annually.

Average Time Per Response: 13.2 hours.

Estimated Total Burden Hours: 20,027 hours.

Total Burden Cost (capital/startup): None.

Total Burden Cost (operating/maintenance): $6,497.

Part III

The Corporation seeks public comment on the forms, the instructions for the forms, and the instructions for the narrative portion of these application instructions.

Type of Review: Revised collection.

Agency: Corporation for National and Community Service.

Title: AmeriCorps*National, State, Indian Tribes and U.S. Territories Application Instructions.

OMB Number: 3045-0047.

Agency Number: None.

Affected Public: Eligible applicants to the Corporation for funding.

Total Respondents: 2,000.

Frequency: Once per year.

Average Time Per Response: Ten (10) hours.

Estimated Total Burden Hours: 20,000 hours.

Total Burden Cost (capital/startup): None.

Total Burden Cost (operating/maintenance): None.

Part IV

The Corporation seeks public comment on the forms, the instructions for the forms, and the instructions for the narrative portion of these application instructions.

Type of Review: Revised collection.

Agency: Corporation for National and Community Service.

Title: AmeriCorps Promise Fellows Application Instructions.

OMB Number: 3045-0073.

Agency Number: None.

Affected Public: Eligible applicants to the Corporation for funding.

Total Respondents: 90.

Frequency: Once per year.

Average Time Per Response: 25 hours.

Estimated Total Burden Hours: 2,250 hours.

Total Burden Cost (capital/startup): None.

Total Burden Cost (operating/maintenance): None.

Part V

The Corporation seeks public comment on the forms, the instructions for the forms, and the instructions for the narrative portion of these application instructions.

Type of Review: Revised collection.

Agency: Corporation for National and Community Service.

Title: AmeriCorps Education Awards Program Application Instructions.

OMB Number: 3045-0065.

Agency Number: None.

Affected Public: Eligible applicants to the Corporation for funding.

Total Respondents: 200.

Frequency: Once per year.

Average Time Per Response: Eight (8) hours.

Estimated Total Burden Hours: 1,600 hours.

Total Burden Cost (capital/startup): None.

Total Burden Cost (operating/maintenance): None.

Part VI

The Corporation seeks public comment on the forms, the instructions for the forms, and the instructions for the narrative portion of these application instructions.

Type of Review: New collection.

Agency: Corporation for National and Community Service.

Title: Innovative and Demonstration Application Instructions.

OMB Number: None.

Agency Number: None.

Affected Public: Eligible applicants to the Corporation for funding.

Total Respondents: 200.

Frequency: Once per year.

Average Time Per Response: 20 hours.

Estimated Total Burden Hours: 4,000 hours.

Total Burden Cost (capital/startup): None.

Total Burden Cost (operating/maintenance): None.

Comments submitted in response to this notice will be summarized and/or included in the request for Office of Management and Budget approval of the information collection request; they will also become a matter of public record.

Dated: November 6, 2001.
Nancy Talbot,
Director, Program Planning and Development.

[FR Doc. 01-28255 Filed 11-9-01; 8:45 am]

BILLING CODE 6050-$$-P